DEPARTMENT OF COMMERCE

National Oceanic and Atmospheric Administration

Science Advisory Board (SAB)

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Thursday, October 29, 9:45 a.m. EDT to 5:45 p.m. EDT and on Friday, October 30, from 8:15 a.m. EDT to 1:00 p.m. EDT. These times and the agenda topics described below are subject to change. Please refer to the Web page http://www.sab.noaa.gov/Meetings/meetings.html for the most up-to-date meeting times and agenda.

Place: The meeting will be held at the Hamilton Hotel Ballroom, 1001 14th Street Northwest, Washington, DC. Please check the SAB Web site http://www.sab.noaa.gov/Meetings/meetings.html for directions to the meeting location.

Status: The meeting will be open to public participation with a 15-minute public comment period on October 29 from 5:30-5:45 p.m. EDT (check Web site to confirm time). The SAB expects that public statements presented at its meetings will not be repetitive of previously submitted verbal or written statements. In general, each individual or group making a verbal presentation will be limited to a total time of two (2) minutes. Individuals or groups planning to make a verbal presentation should contact the SAB Acting Executive Director by October 22, 2015 to schedule their presentation. Written comments should be received in the SAB Executive Director's Office by October 22, 2015, to provide sufficient time for SAB review. Written comments received by the SAB Executive Director after October 22, 2015, will be distributed to the SAB, but may not be reviewed prior to the meeting date. Seating at the meeting will be available on a first-come, first-served basis.

Special Accommodations: These meetings are physically accessible to people with disabilities. Requests for special accommodations may be directed no later than 12:00 p.m. on October 22, 2015, to Dr. Elizabeth Turner, Acting SAB Executive Director, Room 146 Gregg Hall, 35 Colovos Road, Durham, NH 03824; Email: Elizabeth.Turner@noaa.gov.

Matters To Be Considered: The meeting will include the following topics: (1) Review Report for the Joint Institute on Marine and Atmospheric Research (JIMAR); (2) Review Report for the Cooperative Institute on Mesoscale Meteorological Studies (CIMMS); (3) Gulf Coast Ecosystem Restoration Program Advisory Working Group Report on the RESTORE Act Science Program's Performance Metrics Plan and Coordination Plan; (4) SAB Strategy Discussion; (5) Updates from the NOAA Administrator and Chief Scientist; (6) Discussion on Optimizing SAB Working Group Operations and (7) Working Group Issues for Discussion.

FOR FURTHER INFORMATION CONTACT: Dr. Elizabeth Turner, Acting Executive Director, Science Advisory Board, NOAA, Room 146 Gregg Hall, 35 Colovos Road, Durham, NH 03824. Email: Elizabeth.Turner@noaa.gov; or visit the NOAA SAB Web site at http://www.sab.noaa.gov.

Dated: October 1, 2015.
Jason Donaldson,
Chief Financial Officer, Office of Oceanic and Atmospheric Research, National Oceanic and Atmospheric Administration.

[FR Doc. 2015-25679 Filed 10-7-15; 8:45 am]

BILLING CODE 3510-KD-P